DEPARTMENT OF HOUSING AND URBAN DEVELOPMENT

[Docket No. FR-4977-N-10]

Notice of Proposed Information Collection for Public Comment: The Study of Multifamily Building Conformance With the Fair Housing Accessibility Guidelines: Improving the Methodology (Phase 2)

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: February 3, 2006.

ADDRESSES: Interested persons are invited to submit comments regarding this proposal. Comments should refer to the proposal by name and/or OMB control Number and should be sent to: Reports Liaison Officer, Office of Policy Development and Research, Department of Housing and Urban Development, 451 7th Street, SW., Room 8228, Washington, DC 20410-5000.

FOR FURTHER INFORMATION CONTACT: Jennifer Stoloff, Program Evaluation Division, Policy Development and Research, Department of Housing and Urban Development, 451 7th Street, SW., Room 8140, Washington, DC 20410-5000. Telephone (202) 708-3700, extension 5723 for copies of the proposed forms and other available documents. (This is not a toll-free number.)

SUPPLEMENTARY INFORMATION: The Department will submit the proposed information collection to OMB for review, as required by the Paperwork Reduction Act of 1995 (44 U.S.C. Chapter 35, as amended). This Notice is soliciting comments from members of the public and affected agencies concerning the proposed collection of information: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Multifamily Building Conformance with the Fair Housing Accessibility Guidelines: Improving the Methodology.

Description of the need for the information and proposed use: This request is for the clearance of a survey instrument designed to measure the degree of conformance in multifamily buildings to the Fair Housing Accessibility Guidelines. The survey will be compared to baseline data gathered in a previous study from 2003, which covered the period 1991-1996. The purpose of the survey is to: (1) Replicate the core components of the previous survey and compare, where possible, changes in the level of conformance with the Fair Housing Guidelines; (2) Provide a new and more reliable baseline for future studies; and (3) Conduct a large enough survey, with weighted sampling, to assess the differences in levels of conformance among specific housing types (e.g., Low Income Housing Tax Credit properties and elderly properties).

OMB Approval Number: Pending.

Agency form numbers: None.

Members of Affected Public: Individuals.

Estimation of the total number of hours needed to prepare the information collection including number of respondents, frequency of response, and hours of response:

Inspections: 400 projects, average of five hours inspection time per project will result in 2,000 hours. (This estimate combines inspection time with interview time. The actual burden on individuals will be closer to 400 hours.)

Telephone interviews: 100 respondents, one interview at one hour each will result in 100 hours.

Status of the proposed information collection: Pending OMB approval.

Authority: Section 3506 of the Paperwork Reduction Act of 1995, 44 U.S.C. Chapter 35, as amended.

Dated: November 21, 2005.
Harold Bunce,
Deputy Assistant Secretary for Economic Affairs.

[FR Doc. 05-23572 Filed 12-2-05; 8:45 am]

BILLING CODE 4210-62-M